DEPARTMENT OF TRANSPORTATION

Surface Transportation Board

[STB Finance Docket No. 33407]

Dakota, Minnesota & Eastern Railroad Corporation Construction Into the Powder River Basin

In a decision served January 30, 2002, the Board gave approval to the Dakota, Minnesota & Eastern Railroad Corporation to construct and operate a 280-mile rail line into the Powder River Basin of Wyoming. The Board imposed extensive conditions to mitigate certain anticipated adverse environmental impacts, and also established an environmental oversight period. On appeal, the United States Court of Appeals for the Eighth Circuit vacated and partially remanded the Board's decision. Mid States Coalition for Progress v. STB, 345 F.3d 520 (8th Cir. Oct. 2, 2003). The court upheld the Board's decision with respect to all transportation issues, but remanded the case for further Board review on certain environmental issues. Petitions for rehearing of the court's decision were denied on January 30, 2004. Accordingly, the Board will address the remanded issues consistent with the decision of the court of appeals.

Dated: March 3, 2004.
Vernon A. Williams,
Secretary.

[FR Doc. 04-5493 Filed 3-10-04; 8:45 am]

BILLING CODE 4915-01-P